DEPARTMENT OF HOMELAND SECURITY

Bureau of Customs and Border Protection

Notice of Cancellation of Customs Broker National Permit

AGENCY: Bureau of Customs and Border Protection, U.S. Department of Homeland Security.

ACTION: General notice.

SUMMARY: Pursuant to section 641 of the Tariff Act of 1930, as amended, (19 U.S.C. 1641) and the Customs Regulations (19 CFR 111.51), the following Customs broker national permit is canceled without prejudice.

Name | Permit # | Issuing Port
Savino del Bene USA Inc. | 99-00536 | Headquarters.
Welco International Services | 99-00294 | Headquarters.
Savino del Bene New York Inc. | 99-00346 | Headquarters.
ADESA Importation Services Inc. | 99-00428 | Headquarters.

Dated: January 14, 2004.
Jayson P. Ahern,
Assistant Commissioner, Office of Field Operations.

[FR Doc. 04-1629 Filed 1-26-04; 8:45 am]

BILLING CODE 4820-02-P